DEPARTMENT OF ENERGY

Federal Energy Regulatory Commission

[Project No. 13005-001]

Oliver Hydro LLC; Notice of Intent To File License Application, Filing of Pre-Application Document, and Approving Use of the Traditional Licensing Process

a. Type of Filing: Notice of Intent to File License Application and Request to Use the Traditional Licensing Process.

b. Project No.: 13005-001.

c. Dated Filed: May 20, 2011.

d. Submitted by: Symbiotics LLC, on behalf of Oliver Hydro LLC.

e. Name of Project: William Bacon Oliver Lock and Dam Hydroelectric Project.

f. Location: At the U.S. Army Corps of Engineers' (Corps) William Bacon Oliver Lock and Dam on the Black Warrior River, in Tuscaloosa County, Alabama. The project would occupy 26.9 acres of United States lands administered by the Corps' Mobile District.

g. Filed Pursuant to: 18 CFR 5.3 of the Commission's regulations.

h. Potential Applicant Contact: Brent Smith, Symbiotics LLC, 371 Upper Terrace, Suite 2, Bend, OR 97702; (541) 330-8779; or e-mail brent.smith@symbioticsenergy.com.

i. FERC Contact: Rachel McNamara at (202) 502-8340; or e-mail at rachel.mcnamara@ferc.gov.

j. Symbiotics LLC, on behalf of Oliver Hydro LLC, filed its request to use the Traditional Licensing Process on May 20, 2011. Symbiotics LLC provided public notice of its request on May 23, 2011. In a letter dated July 20, 2011, the Director of the Division of Hydropower Licensing approved Symbiotics LLC's request to use the Traditional Licensing Process.

k. With this notice, we are initiating informal consultation with: (a) The U.S. Fish and Wildlife Service under section 7 of the Endangered Species Act and the joint agency regulations thereunder at 50 CFR, part 402 and (b) the Alabama State Historic Preservation Officer, as required by section 106, National Historical Preservation Act, and the implementing regulations of the Advisory Council on Historic Preservation at 36 CFR 800.2.

l. Symbiotics LLC, on behalf of Oliver Hydro LLC, filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, or toll free at 1-866-208-3676, or for TTY, (202) 502-8659. A copy is also available for inspection and reproduction at the address in paragraph h.

n. Register online at http://www.ferc.gov/docs-filing/esubscription.asp to be notified via e-mail of new filing and issuances related to this or other pending projects. For assistance, contact FERC Online Support.

Dated: July 29, 2011.
Nathaniel J. Davis, Sr.,
Deputy Secretary.

[FR Doc. 2011-20041 Filed 8-8-11; 8:45 am]

BILLING CODE 6717-01-P